SMALL BUSINESS ADMINISTRATION

[Declaration of Disaster #3341, Amdt. #1]

State of Minnesota

In accordance with a notice received from the Federal Emergency Management Agency, dated May 29, 2001, the above-numbered Declaration is hereby amended to establish the incident period for this disaster as beginning on March 23, 2001 and continuing through May 29, 2001. The above-numbered Declaration is also amended to include Aitkin, Big Stone, Carlton, Clay, Dakota, Kanabec, Lac qui Parle, Mille Lacs, Morrison, Mower, Norman, Olmstead, Otter Trail, Pine, Polk, Ramsey, Redwood, Renville, Rice, Sibley, Stearns, Swift, Todd, Traverse, Wilkin and Wright Counties in the State of Minnesota as disaster areas caused by flooding and severe winter storms, flooding and tornadoes occurring between March 23, 2001 and May 29, 2001.

In addition, applications for economic injury loans from small businesses located in Becker, Brown, Carver, Cass, Clearwater, Cottonwood, Crow Wing, Hennepin, Isanti, LeSueur, Mahnomen, Marshall, McLeod, Meeker, Murray, Nicollet, Pennington, Red Lake, Scott and Wadena Counties in the State of Minnesota; Mitchell and Howard Counties in the State of Iowa; Cass, Grand Forks, Richland and Traill Counties in the State of North Dakota; and Grant and Roberts Counties in the State of South Dakota may be filed until the specified date at the previously designated location. Any counties contiguous to the above named primary counties and not listed here have been previously declared.

The number assigned for economic injury in the State of North Dakota is 9L7700.

All other information remains the same, i.e., the deadline for filing applications for physical damage is July 15, 2001 and for economic injury the deadline is February 15, 2002.

(Catalog of Federal Domestic Assistance Program Nos. 59002 and 59008.)

Dated: May 30, 2001.
James E. Rivera,
Acting Associate Administrator for Disaster Assistance.

[FR Doc. 01-14111 Filed 6-4-01; 8:45 am]

BILLING CODE 8025-01-P